DEPARTMENT OF COMMERCE

Foreign-Trade Zones Board

[Docket 15-2008]

Foreign-Trade Zone 122— Corpus Christi, TX; Application for Subzone; Baker Hughes, Inc. (Barite Grinding and Milling); Corpus Christi, TX

An application has been submitted to the Foreign-Trade Zones Board (the Board) by the Port of Corpus Christi Authority, grantee of Foreign-Trade Zone (FTZ) 122, requesting special-purpose subzone status for the barite grinding and milling facility of Baker Hughes, Inc. (Baker Hughes) located in Corpus Christi, Texas. The application was submitted pursuant to the provisions of the Foreign-Trade Zones Act, as amended (19 U.S.C. 81a-81u), and the regulations of the Board (15 CFR Part 400). It was formally filed by the Board on February 25, 2008.

The Baker Hughes facility (11 acres, 12 employees) is located at 322 Manning Road, in Corpus Christi, within the Corpus Christi Customs and Border Protection port of entry. The facility is used for manufacturing, warehousing and distribution activities related to the processing of raw barite (HTSUS 2511.10.50) into ground barite (HTSUS 2511.10.10) (up to 350,000 tons annually). Ground barite is used in the production of drilling fluids (drilling mud) and various specialty chemicals for use by the oil and natural gas exploration industry. Baker Hughes sources the majority of its raw baritefrom abroad. The duty rate on the raw barite is $1.25 per metric ton.

This application requests authority for Baker Hughes to conduct the activity under FTZ procedures, which would exempt the company from Customs duty payments on the imported barite used in export production. Less than one percent of production is exported. On domestic sales, the company could choose the lower duty rate (duty-free) for the imported raw barite used in manufacturing that applies to the finished product. The majority of FTZ-related savings will come from the elimination of the duty on the finished product. Baker Hughes will also realize additional savings on the elimination of duties on materials that become scrap/waste during manufacturing. The application indicates that the FTZ-related savings would improve the plant's international competitiveness.

In accordance with the Board's regulations, a member of the FTZ staff has been designated examiner to investigate the application and report to the Board.

Public comment is invited from interested parties. Submissions (original and 3 copies) shall be addressed to the Board's Executive Secretary at the address listed below. The closing period for their receipt is May 12, 2008. Rebuttal comments in response to material submitted during the foregoing period may be submitted during the subsequent 15-day period May 27, 2008.

A copy of the application and accompanying exhibits will be available at each of the following addresses: the Port of Corpus Christi Authority, 222 Power Street, Corpus Christi, TX 78403; and, Office of the Executive Secretary, Foreign-Trade Zones Board, Room 2111, U.S. Department of Commerce, 1401 Constitution Avenue, NW., Washington, DC, 20230. For further information contact Christopher Kemp at christopher_kemp@ita.doc.gov or (202) 482-0862.

Dated: February 25, 2008.
Andrew McGilvray,
Executive Secretary.

[FR Doc. E8-4834 Filed 3-10-08; 8:45 am]

BILLING CODE 3510-DS-P